DEPARTMENT OF THE INTERIOR

Bureau of Land Management

[LLWO310000.19X.L13140000.PP0000; OMB Control Number 1004-0207]

Agency Information Collection Activities; Submission to the Office of Management and Budget for Review and Approval; Oil and Gas Facility Site Security

AGENCY: Bureau of Land Management, Interior.

ACTION: Notice of information collection; request for comment.

SUMMARY: In accordance with the Paperwork Reduction Act of 1995, the Bureau of Land Management (BLM) is proposing to renew an information collection with revisions.

DATES: Interested persons are invited to submit comments on or before February 18, 2020.

ADDRESSES: Send written comments on this information collection request (ICR) to the Office of Management and Budget's Desk Officer for the Department of the Interior by email at OIRA_Submission@omb.eop.gov; or via facsimile to (202) 395-5806. Please provide a copy of your comments to the BLM at U.S. Department of the Interior, Bureau of Land Management, 1849 C Street NW, Room 2134LM, Washington, DC 20240, Attention: Chandra Little; or by email to cclittle@blm.gov. Please reference OMB Control Number 1004-0207 in the subject line of your comments.

FOR FURTHER INFORMATION CONTACT: To request additional information about this ICR, contact Michael Wade by email at mwade@blm.gov, or by telephone at 303-239-3737. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on September 11, 2019 (84 FR 47970). No comments were received.

We are again soliciting comments on the proposed ICR that is described below. We are especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so. This control number pertains to site security for Federal and Indian (except Osage Tribe) oil and gas leases. In this ICR, the BLM requests the removal of several activities involving the use of BLM Form 3160-5 (Sundry Notices and Reports on Wells). At the BLM's request, OMB authorized transfer of those activities from control number 1004-0207 to control number 1004-0137 (Onshore Oil and Gas Operations and Production).

Title of Collection: Oil and Gas Facility Site Security.

OMB Control Number: 1004-0207.

Forms: None.

Type of Review: Revision of a currently approved collection.

Description of Respondents: Lessees, operators, purchasers, transporters, and any other person directly involved in producing, transporting, purchasing, selling, or measuring oil or gas through the point of royalty measurement or the point of first sale, whichever is later.

Total Estimated Number of Annual Respondents: 5,000.

Total Estimated Number of Annual Responses: 93,975.

Estimated Completion Time per Response: Varies from 0.25 to 10 hours per response.

Total Estimated Number of Annual Burden Hours: 69,640.

Respondent's Obligation: Required to Obtain or Retain a Benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Chandra Little,
Bureau of Land Management, Acting Information Collection Clearance Officer.

[FR Doc. 2020-00612 Filed 1-15-20; 8:45 am]

BILLING CODE 4310-84-P